DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Application and Reports for Registration as a Tanner Agent.

OMB Control Number: 0648-0179.

Form Number(s): None.

Type of Request: Regular (extension of a currently approved information collection).

Number of Respondents: 12.

Average Hours per Response: 2 hours each, for applications and reports.

Burden Hours: 24.

Needs and Uses: This request is for extension of a currently approved information collection.

The Marine Mammal Protection Act exempts Alaskan natives from the prohibitions on taking, killing, or injuring marine mammals if the taking is done for subsistence or for creating and selling authentic native articles of handicraft or clothing. The natives need no permit, but non-natives who wish to act as a tanner or agent for such native products must register with NOAA and maintain and submit certain records. The information is necessary for law enforcement purposes.

Affected Public: Business or other for-profit organizations; state, local or tribal government.

Frequency: Annually and on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: February 24, 2017.
Sarah Brabson,
NOAA PRA Clearance Officer.

[FR Doc. 2017-04020 Filed 3-1-17; 8:45 am]

BILLING CODE 3510-22-P